DEPARTMENT OF TRANSPORTATION

Coast Guard

33 CFR Part 165

[COTP Los Angeles-Long Beach 02-003]

RIN 2115-AA97

Safety Zone; Long Beach, CA

AGENCY: Coast Guard, DOT.

ACTION: Temporary final rule.

SUMMARY: The Coast Guard has established a temporary safety zone in the navigable waters of Long Beach, California, for the National Water Ski Racing Association (NWSRA) Water Ski Race from 8 a.m. to 5 p.m. (PST) on March 23, 2002 and from 8 a.m. to 5 p.m. on March 24, 2002. This safety zone is necessary to provide for the safety of the crew and participants of the race and to protect the participating vessels. Persons and vessels are prohibited from entering into or transiting through this safety zone unless authorized by the Captain of the Port or his or her designated representative.

DATES: This rule is effective from 8 a.m. (PST) on March 23, 2002, to 5 p.m. on March 24, 2002.

ADDRESSES: Documents indicated in this preamble as being available in the docket are part of docket COTP Los Angeles-Long Beach 02-003 and are available for inspection or copying at U.S. Coast Guard Marine Safety Office/Group Los Angeles-Long Beach, 1001 S. Seaside Avenue, Building 20, San Pedro, California, 90731 between 8 a.m. and 4 p.m., Monday through Friday, except Federal holidays.

FOR FURTHER INFORMATION CONTACT: Boatswain's Mate Second Class Jessica Walsh, Waterways Management Division, at (310) 732-2020.

SUPPLEMENTARY INFORMATION:

Regulatory Information

On February 19, 2002, we published a notice of proposed rulemaking (NPRM) entitled “Safety Zone; Long Beach, CA” in the Federal Register (67 FR 7321). We received no letters from the public commenting on the proposed rule. No public hearing was requested, and none was held.

Under 5 U.S.C. 553(d)(3), the Coast Guard finds that good cause exists for making this rule effective less than 30 days after publication in the Federal Register. Waiting 30 days after publication would delay the effective date of this safety zone beyond the event date of March 23, 2002, and that would be contrary to the need for public safety during this event.

Background and Purpose

This temporary safety zone provides for the safety of National Water Ski Racing Association (NWSRA) water ski race participants and spectators on March 23 and 24, 2002, from 8 a.m. to 5 p.m. both days. Persons and vessels are prohibited from entering into or transiting through this zone unless authorized by the Captain of the Port or his or her designated representative. By prohibiting persons and vessels from entering the waters surrounding the racecourse, the risk of high-speed collision will be significantly reduced. The U.S. Coast Guard will enforce this safety zone with assistance from the U.S. Coast Guard Auxiliary and event staff.

The following area is safety zone: All waters encompassed by lines connecting the following points, beginning at latitude 33°45′50″ N, longitude 118°10′48″ W; thence to 33°44′00″ N, 118°10′05″ W; thence to 33°44′00″ N, 118°09′26″ W; thence to 33°45′28″ N, 118°09′00″ W, and thence returning to the point of origin (North American Datum of 1983). This area is approximately 3,000 yards wide and 2,500 yards long and is centered near the oil islands off Long Beach, California.

Discussion of Comments and Changes

We received no letters from the public commenting on the proposed rule. We made one editorial change from the proposed rule to clarify that the rule will be enforced during the hours listed in paragraph (b).

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Transportation (DOT) (44 FR 11040, February 26, 1979) because this safety zone will encompass a small portion of the waterway for limited periods of time and vessel traffic can pass safety around the affected area.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

We expect that this rule will affect the following entities, some of which may be small entities: The owners and operators of private and commercial vessels intending to transit or anchor in a small portion of the port of Long Beach. The impact to these entities would not, however, be significant since this zone will encompass a small portion of the waterway for limited periods of time.

We received no letters from the public commenting on the proposed rule's impact to small entities and no changes to the proposed rule were made.

Assistance for Small Entities

Under section 213(a) of the Small Business Regulatory Enforcement Fairness Act of 1996 (Pub. L. 104-121), we offered to assist small entities in understanding the rule so that they could better evaluate its effects on them and participate in the rulemaking process. No requests for assistance to small entities were received.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

We received no letters commenting on the proposed rule implications for federalism and no changes to the proposed rule were made.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

We received no letters commenting on the proposed rule and no changes to the proposed rule were made.

Taking of Private Property

This rule will not effect a taking of private property or otherwise have taking implications under Executive Order 12630, Governmental Actions and Interference with Constitutionally Protected Property Rights.

We received no letters commenting on the proposed rule effecting a taking of private property and no changes to the proposed rule were made.

Civil Justice Reform

This rule meets applicable standards in sections 3(a) and 3(b)(2) of Executive Order 12988, Civil Justice Reform, to minimize litigation, eliminate ambiguity, and reduce burden.

We received no letters commenting on the proposed rule complying with Civil Justice Reform and no changes to the proposed rule were made.

Protection of Children

We have analyzed this rule under Executive Order 13045, Protection of Children from Environmental Health Risks and Safety Risks. This rule is not an economically significant rule and does not create an environmental risk to health or risk to safety that may disproportionately affect children.

We received no letters commenting on the proposed rule environmental risks to children and no changes to the proposed rule were made.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

We received no letters commenting on the proposed rule implications for tribal governments and no changes to the proposed rule were made.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

We received no letters commenting on the proposed rule effect on energy and no changes to the proposed rule were made.

Environment

We have considered the environmental impact of this rule and concluded that under figure 2-1, paragraph (34)(g), of Commandant Instruction M16475.lD, this rule is categorically excluded from further environmental documentation because it is a safety zone in effect for only 2 days. A “Categorical Exclusion Determination” is not required.

We received no letters commenting on the proposed rule environmental impact and no changes to the proposed rule were made.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1231; 50 U.S.C. 191, 33 CFR 1.05-1(g), 6.04-1, 6.04-6, 160.5; 49 CFR 1.46.

2. From 8 a.m. on March 23, 2002, to 5 p.m. on March 24, 2002, add § 165.T11-063 to read as follows:

§ 165.T11-063 Safety Zone; Long Beach, CA.

(a) Location. The following area is a safety zone: All waters encompassed by lines connecting the following points, beginning at latitude 33°45′50″ N, longitude 118°10′48″ W; thence to 33°44′00″ N, 118°10′05″ W; thence to 33°44′00″ N, 118°09′26″ W; thence to 33°45′28″ N, 118°09′00″ W; and thence returning to the point of origin. (NAD83)

(b) Enforcement period. This section will be enforced from 8 a.m. to 5 p.m. (PST) on March 23, 2002 and from 8 a.m. to 5 p.m. (PST) on March 24, 2002.

(c) Regulations. In accordance with the general regulations in § 165.23 of this part entry into, transit through, or anchoring within the safety zone is prohibited unless authorized by the Coast Guard Captain of the Port, Los Angeles-Long Beach, or his or her designated representative.

Dated: March 6, 2002.
J. M. Holmes,
Captain, U. S. Coast Guard, Captain of the Port, Los Angeles-Long Beach, California.

[FR Doc. 02-6647 Filed 3-19-02 8:45am]

BILLING CODE 4910-15-U